DEPARTMENT OF ENERGY

Federal Energy Regulatory Commission

[Docekt No. RP03-142-000]

Mojave Pipeline Company; Notice of Tariff Filing

December 16, 2002.

Take notice that on November 27, 2002, Mojave Pipeline Company (Mojave) tendered for filing as part of its FERC Gas Tariff, Second

Revised Volume No. 1, Ninth Revised Sheet No. 11; and Substitute Original Sheet No. 243, with an effective date of January 1, 2003.

Mojave states that the tariff sheets revise the fuel charge applicable to transportation service on Mojave's system and conform Sheet No. 243 to the terms of the Settlement in Docket No. RP01-172-000. The tariff sheet for the revised fuel charge is proposed to become effective January 1, 2003 and the correction to Substitute Original Sheet No. 243 is proposed to become effective February 1, 2002.

Any person desiring to be heard or to protest said filing should file a motion to intervene or a protest with the Federal Energy Regulatory Commission, 888 First Street, NE., Washington, DC 20426, in accordance with sections 385.214 or 385.211 of the Commission's Rules and Regulations. All such motions or protests must be filed on or before December 23, 2002. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Magalie R. Salas,
Secretary.

[FR Doc. 02-32209 Filed 12-20-02; 8:45 am]

BILLING CODE 6717-01-P